DEPARTMENT OF THE TREASURY

Submission for OMB Review; Comment Request

June 14, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 21, 2000.

Internal Revenue Service (IRS)

OMB Number: 1545-0239.

Form Number: IRS Form 5754.

Type of Review: Extension.

Title: Statement by Person(s) Receiving Gambling Winnings.

Description: Section 3402(q)(6) of the Internal Revenue Code (IRC) requires a statement by the person receiving certain gambling winnings when that person is not the winner or is one of a group of winners. It enables the payer to properly apportion the winnings and withheld tax on Form W-2G. We use the information on Form W-2G to ensure that recipients are properly reporting their income.

Respondents: Business or other for-profit, Individuals or households, Not-for-profit institutions.

Estimated Number of Respondents: 306,000.

Estimated Burden Hours Per Respondent: 12 minutes.

Frequency of Response: On occasion.

Estimated Total Reporting Burden: 61,200 hours.

OMB Number: 1545-1059.

Form Number: IRS Form 7018 and 7018-A.

Type of Review: Extension.

Title: Employer's Order Blank for Forms (7018); and Employer's Order Blank for 2000 Forms.

Description: Forms 7018 and 7018-A allow taxpayers who must file information returns a systematic way to order information tax forms materials.

Respondents: Business or other for-profit.

Estimated Number of Respondents: 1,668,000.

Estimated Burden Hours Per Respondent: 3 minutes.

Frequency of Response: Annually.

Estimated Total Reporting Burden: 83,400 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Dale A. Morgan,
Departmental Reports Management Officer.

[FR Doc. 00-15657 Filed 6-20-00; 8:45 am]

BILLING CODE 4830-01-U